COMMISSION ON CIVIL RIGHTS

Agenda and Notice of Public Meeting of the Vermont Advisory Committee

AGENCY: Commission on Civil Rights.

ACTION: Announcement of meeting.

SUMMARY: Notice is hereby given, pursuant to the provisions of the rules and regulations of the U.S. Commission on Civil Rights (Commission), and the Federal Advisory Committee Act (FACA), that a meeting of the Vermont Advisory Committee to the Commission will convene at 11:00 a.m. (EDT) on Friday, July 31, 2015 by conference call. The purpose of the meeting is to discuss and vote on a project proposal regarding housing in Vermont. The committee selected the topic and its last open meeting.

Members of the public can listen to the discussion. This meeting is available to the public through the following toll-free call-in number: 888-556-4997, conference ID: 7001560. Any interested member of the public may call this number and listen to the meeting. An open comment period will be provided to allow members of the public to make a statement as time allows. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Persons interested in the issue are also invited to submit written comments; the comments must be received in the regional office by Monday, August 31, 2015. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

Records and documents discussed during the meeting will be available for public viewing as they become available at http://www.facadatabase.gov/committee/meetings.aspx?cid=278 and clicking on the “Meeting Details” and “Documents” links. Records generated from this meeting may also be inspected and reproduced at the Eastern Regional Office, as they become available, both before and after the meeting. Persons interested in the work of this advisory committee are advised to go to the Commission's Web site, www.usccr.gov, or to contact the Eastern Regional Office at the above phone number, email or street address.

Agenda

Update on Headquarters and Commission Activities

Barbara de La Viez, Designated Federal Official

Update on SAC Activities

Diane B. Snelling, Chair

Review, Discussion, and Vote on Project Proposal

Vermont State Advisory Committee

Targets and Milestones

Diane B. Snelling, Chair

Open Comment

DATES: Friday, July 31, 2015, at 11:00 a.m. (EDT).

Public Call Information:

Dial: 888-556-4997.

Conference ID: 7001560.

FOR FURTHER INFORMATION CONTACT: Ivy L. Davis at ero@usccr.gov, or 202-376-7533.

Exceptional Circumstance: Pursuant to 41 CFR 102-3.150, the notice for this meeting may be published less than 15 calendar days prior to the meeting because of the exceptional circumstance of a procedural miscommunication which is now corrected.

Dated: Wednesday, July 15, 2015.
David Mussatt,
Chief, Regional Programs Unit.

[FR Doc. 2015-17745 Filed 7-20-15; 8:45 am]

BILLING CODE 6335-01-P